FEDERAL COMMUNICATIONS COMMISSION

47 CFR Part 73

[MB Docket No. 23-286; RM-11960; DA 23-1054; FR ID 184696]

Television Broadcasting Services Winnemucca, Nevada

AGENCY: Federal Communications Commission.

ACTION: Final rule.

SUMMARY: The Video Division, Media Bureau (Bureau), has before it a Notice of Proposed Rulemaking issued in response to a Petition for Rulemaking filed by Gray Television Licensee, LLC (Petitioner or Gray), the licensee of unbuilt television station KWNV(DT) (KWNV or Station), channel 7, Winnemucca, Nevada (Winnemucca). The Petitioner has requested the substitution of UHF channel 16 for VHF channel 7 in the Table of TV Allotments. The Petitioner filed comments in support of the petition, as required by the Commission's rules (rules), reaffirming its commitment to apply for channel 16.

DATES: Effective November 22, 2023.

FOR FURTHER INFORMATION CONTACT: Joyce Bernstein, Media Bureau, at (202) 418-1647 or Joyce.Bernstein@fcc.gov.

SUPPLEMENTARY INFORMATION: The proposed rule was published at 88 FR 59836 on August 30, 2023. The Petitioner filed comments in support of the petition reaffirming its commitment to apply for channel 16. No other comments were received.

The Bureau believes the public interest would be served by substituting channel 16 for channel 7 at Winnemucca. In support of its channel substitution request, Gray states that building out its new station on a UHF channel will avoid well-documented issues with indoor digital VHF reception. Gray observes that the Commission has recognized the deleterious effects manmade noise has on the reception of VHF channel signals, and the large variability in the performance of indoor antennas receiving UHF and VHF signals, with the substantial majority poorly receiving high-VHF channel signals compared to UHF channel signals. We also find that the proposal complies with all relevant technical requirements for amendment of the Table of TV Allotments, including the interference protection requirements of section 73.616 of the rules, and the proposed channel 16 facility will provide full principal community coverage to Winnemucca. In addition, proposed channel 16 noise limited service contour (NLSC) almost entirely encompasses the authorized channel 7 NLSC, and Gray does not propose a change in transmitter location. We also note that no viewers will lose any existing service because as a permittee, Gray has not commenced operations in Winnemucca.

As proposed, channel 16 can be substituted for channel 7 at Winnemucca in compliance with the principal community coverage requirements of section 73.625(a) of the rules, at coordinates 41°00′31.0″ N and 117°46′13.0″ W. In addition, we find that this channel change meets the technical requirements set forth in sections 73.616 and 73.623 of the rules. We also conclude that good cause exists to make this channel change effective immediately upon publication in the Federal Register, pursuant to section 553(d)(3) of the Administrative Procedure Act. An expedited effective date is necessary in this case to ensure that KWNV can operate with improved service to its viewers as quickly as possible.

This is a synopsis of the Commission's Report and Order, MB Docket No. 23-286; RM-11960; DA 23-1054, adopted November 7, 2023, and released November 7, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622 (j), amend the Table of TV Allotments under Nevada by revising the entry for Winnemucca to read as follows:

§ 73.622 Digital television table of allotments.

* * * * *

(j) * * *

Community | Channel No.
* * * * *
Nevada
* * * * *
Winnemucca | 16
* * * * *

[FR Doc. 2023-25394 Filed 11-21-23; 8:45 am]

BILLING CODE 6712-01-P